DEPARTMENT OF JUSTICE

Antitrust Division

Notice Pursuant to the National Cooperative Research and Production Act of 1993—Consumer Electronics Association

Notice is hereby given that, on September 16, 2004, pursuant to section 6(a) of the National Cooperative Research and Production Act of 1993, 15 U.S.C. 4301 et seq. (“the Act”), Consumer Electronics Association (“CEA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Consumer Electronics Association, Arlington, VA. The nature and scope of CEA's standards development activities are: Activities associated with the design and manufacture of consumer electronics (“CE”) products and related services, CE device/service and device/device interoperability and transmission signals that may traverse the demarcation points of telecommunications infrastructures.

Dorothy B. Fountain,
Deputy Director of Operations, Antitrust Division.

[FR Doc. 04-24578 Filed 11-2-04; 8:45 am]

BILLING CODE 4410-11-M